DEPARTMENT OF THE INTERIOR

Fish and Wildlife Service

50 CFR Part 17

RIN 1018-AF98

Endangered and Threatened Wildlife and Plants; Reopening of Comment Period on Proposed Determination of Critical Habitat for the Alameda Whipsnake (Masticophis lateralis euryxanthus)

AGENCY: Fish and Wildlife Service, Interior.

ACTION: Proposed rule; reopening of comment period and notice of public hearing.

SUMMARY: The U.S. Fish and Wildlife Service (Service) gives notice of a public hearing on the proposed rule to designate critical habitat for the threatened Alameda whipsnake (Masticophis lateralis euryxanthus). In addition, the comment period which originally closed on May 8, 2000, will be reopened. The new comment period and hearing will allow all interested parties to submit oral or written comments on the proposal. We are seeking comments or suggestions from the public, other concerned governmental agencies, the scientific community, industry, or any other interested parties concerning the proposed rule. Comments already submitted on the proposed rule need not be resubmitted as they will be fully considered in the final determination.

DATES: The comment period for this proposal now closes on June 12, 2000. Any comments received by the closing date will be considered in the final decision on this proposal. The public hearing will be held from 1:00 p.m. to 3:00 p.m. and from 6:00 p.m. to 8:00 p.m. on June 1, 2000, in San Ramon, California.

ADDRESSES: The public hearing will be held at the San Ramon Marriott, 2600 Bishop Drive, Salon E, San Ramon, California. Comments and materials concerning this proposal should be sent to the Field Supervisor, Sacramento Fish and Wildlife Office, U.S. Fish and Wildlife Service, 2800 Cottage Way, Suite W-2605, Sacramento, California 95825. Comments and materials received will be available for public inspection, by appointment, during normal business hours at the above address.

FOR FURTHER INFORMATION CONTACT: Jason Davis or Heather Bell, at the above address, phone 916-414-6600, facsimile 916-414-6710.

SUPPLEMENTARY INFORMATION:

Background

On March 8, 2000, the Service published a proposed rule to designate critical habitat for the threatened Alameda whipsnake in the Federal Register (65 FR 12155). The original comment period closed on May 8, 2000. The comment period now closes on June 12, 2000. Written comments should be submitted to the Service (see ADDRESSES section).

A total of approximately 164,663 hectares (406,708 acres) of land fall within the boundaries of the proposed critical habitat designation. Proposed critical habitat is located in Contra Costa, Alameda, San Joaquin, and Santa Clara counties, California. If this proposal is made final, section 7 of the Act prohibits destruction or adverse modification of critical habitat by any activity funded, authorized, or carried out by any Federal agency. Section 4 of the Act requires us to consider economic and other impacts of specifying any particular area as critical habitat.

Section 4(b)(5)(E) of the Act (16 U.S.C. 1531 et seq.), requires that a public hearing be held if it is requested within 45 days of the publication of a proposed rule. In response to three such requests, the Service will hold a public hearing on the date and at address described in the DATES and ADDRESSES sections above.

Anyone wishing to make an oral statement for the record is encouraged to provide a written copy of their statement and present it to the Service at the hearing. In the event there is a large attendance, the time allotted for oral statements may be limited. Oral and written statements receive equal consideration. There are no limits to the length of written comments presented at the hearing or mailed to the Service. Legal notices announcing the date, time, and location of the hearing will be published in newspapers concurrently with the Federal Register notice.

Comments from the public regarding the accuracy of this proposed rule are sought, especially regarding:

(1) The location of any additional populations of Alameda whipsnakes and the reasons why any habitat should or should not be determined to be critical habitat;

(2) Additional information regarding the validity of the primary constituent elements described in the proposed rule; and (3) Additional information regarding areas that may be essential as travel corridors for connecting individual Alameda whipsnake populations.

Reopening of the comment period will enable the Service to respond to the request for a public hearing on the proposed action. The comment period on this proposal now closes on June 12, 2000. Written comments should be submitted to the Service office listed in the ADDRESSES section.

Author

The primary authors of this notice are Jason Davis and Heather Bell (see ADDRESSES section).

Authority

The authority for this action are the Endangered Species Act of 1973 (16 U.S.C. 1531 et seq.).

Dated: May 2, 2000.
John Engbring,
Manager.

[FR Doc. 00-11450 Filed 5-12-00; 8:45 am]

BILLING CODE 4310-55-P